ENVIRONMENTAL PROTECTION AGENCY

40 CFR Part 52

[EPA-R04-OAR-2013-0772; FRL-9919-10-Region 4]

Approval and Promulgation of Implementation Plans; North Carolina; Inspection and Maintenance Program Updates

AGENCY: Environmental Protection Agency.

ACTION: Direct final rule.

SUMMARY: The Environmental Protection Agency (EPA) is taking direct final action to approve State Implementation Plan (SIP) revisions submitted by the State of North Carolina, through the North Carolina Department of Environment and Natural Resources (NC DENR) on January 31, 2008, May 24, 2010, October 11, 2013, and February 11, 2014, pertaining to rules for changes to the North Carolina Inspection and Maintenance (I/M) program. Specifically, these SIP revisions update the North Carolina I/M program as well as repeal one rule that is included in the federally-approved SIP.

DATES: This direct final rule is effective on January 20, 2015 without further notice, unless EPA receives relevant adverse comment by December 22, 2014. If EPA receives such comment, EPA will publish a timely withdrawal in the Federal Register informing the public that this rule will not take effect.

ADDRESSES: Submit your comments, identified by Docket ID No. EPA-R04-OAR-2013-0772, by one of the following methods:

1. www.regulations.gov: Follow the on-line instructions for submitting comments.

2. Email: R4-RDS@epa.gov.

3. Fax: 404-562-9019.

4. Mail: “EPA-R04-OAR-2013-0772,” Regulatory Development Section, Air Planning Branch, Air, Pesticides and Toxics Management Division, U.S. Environmental Protection Agency, Region 4, 61 Forsyth Street SW., Atlanta, Georgia 30303-8960.

5. Hand Delivery or Courier: Lynorae Benjamin, Chief, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 a.m. to 4:30 p.m., excluding Federal holidays.

Instructions: Direct your comments to Docket ID No. “EPA-R04-OAR-2013-0772”. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 a.m. to 4:30 p.m., excluding Federal holidays.

FOR FURTHER INFORMATION CONTACT: Nacosta Ward, Regulatory Development Section, Air Planning Branch, Air, Pesticides and Toxics Management Division, U.S. Environmental Protection Agency, Region 4, 61 Forsyth Street, SW., Atlanta, Georgia 30303-8960. The telephone number is (404) 562-9140. Ms. Ward can be reached via electronic mail at ward.nacosta@epa.gov. For information regarding the I/M program, contact Ms. Amanetta Somerville, Air Quality Modeling and Transportation Section, at the same address above. Telephone number: (404) 562-9025; email address: somerville.amanetta@epa.gov.

SUPPLEMENTARY INFORMATION:

Table of Contents

I. Today's Action

II. Background

III. EPA's Analysis of North Carolina's SIP Revisions

IV. Final Action

V. Statutory and Executive Order Reviews

I. Today's Action

EPA is approving four SIP revisions submitted by NC DENR on January 31, 2008, May 24, 2010, October 11, 2013, and February 11, 2014. Specifically, these SIP revisions relate to changes for North Carolina's I/M rules as well as the repeal of one rule (section 15A NCAC 2D .1004 within the Motor Vehicle Emission Control Standards).

The January 31, 2008, SIP revision submitted by NC DENR involves multiple regulatory changes to the North Carolina SIP. This action, however, pertains only to the portion of North Carolina's January 31, 2008, SIP revision which revises section 15A NCAC 02D .1000, Motor Vehicle Emission Control Standard, to account for the repeal of regulation 15A NCAC 02D .1004, Tailpipe Emission Standards for Carbon Monoxide (CO) and Hydrocarbon (HC). Regulation 15A NCAC 2D .1004, was repealed because it is obsolete, and today, EPA is removing this provision from the SIP. The requirement for tailpipe emission testing for passenger motor vehicles has been replaced by on-board diagnostics (OBD) testing in 15A NCAC 02D .1005. This change to North Carolina's I/M rules became State effective on July 1, 2007.¹

¹ EPA notes that OBD is more accurate than tailpipe testing and provides for earlier detection of vehicles that do not meet the performance standards.

The May 24, 2010, SIP revision submitted by NC DENR involves additional changes to the North Carolina I/M program, however, on October 11, 2013, NC DENR submitted a subsequent SIP revision to supplement and replace the May 24, 2010, revision. Specifically, the May 24, 2010, submission included changes regarding the I/M portion of the North Carolina SIP narrative to reflect changes to the areas impacted by the North Carolina I/M program and the internal procedures for the management of the I/M program. These changes were revised by the October 11, 2013, SIP revision, which also amended the SIP to reflect changes to the internal procedures for the management of the I/M program.

The October 11, 2013, SIP revision submitted by NC DENR also provided a technical demonstration of non-interference to address whether pending changes to the State's I/M program would interfere with air quality in North Carolina areas subject to the I/M program. The pending rule changes were triggered by North Carolina General Assembly Session Law 2012-199, which incorporated an exemption from emission inspection for the three newest model year vehicles with less than 70,000 miles on their odometers in all areas in the State where I/M is required. In addition, these rule changes were also necessitated by the North Carolina General Assembly Session Law 2011-95, which exempted plug-in vehicles from emission inspection requirements.

On February 11, 2014, as a supplement to North Carolina's October 11, 2013, SIP revision, NC DENR submitted a SIP revision incorporating the necessary rule changes related to the North Carolina General Assembly Session Laws 2011-95 and 2012-199 statutory exemption from emission inspection for plug-in vehicles and for the three newest model year vehicles with less than 70,000 miles on their odometers in all areas in the State where I/M is required under SIP section 15A NCAC 02D .1000, Motor Vehicle Emission Control Standard. Specifically rules 15A NCAC 02D .1002, .1003, .1005, and .1006 were amended, and 15A NCAC 02D .1009 was repealed.²

² While North Carolina's submission provides changes to regulation 15A NCAC 02D .1006 and a repeal of 15A NCAC 02D .1009, these regulations were never incorporated into the federally-approved SIP and thus no action on EPA's part is needed related to the changes for regulation 15A NCAC 02D .1006, and the repeal of 15A NCAC 02D .1009.

More information on EPA's analysis of North Carolina's SIP revisions related to changes in the State's I/M program is provided Section III of this rulemaking.

II. Background

The North Carolina I/M program began in 1982 in Mecklenburg County. From 1986 through 1991 the program expanded to include eight additional counties (Wake, Forsyth, Guilford, Durham, Gaston, Cabarrus, Orange and Union County) based on a “tail-pipe” emissions test. In 1999, the North Carolina General Assembly passed legislation to expand the coverage area for the I/M program in the State in order to gain additional emission reductions to achieve the 1997 8-hour ozone national ambient air quality standards in the State. The vehicle testing requirements in these expanded counties were OBD requirements rather than tail-pipe testing requirements. Starting in October 2002, the original nine counties converted from tail-pipe testing to the new OBD emission testing for all model year (MY) 1996 and newer light duty gasoline vehicles and continued tail-pipe testing of MY 1995 and older vehicles. The program began to expand from nine counties starting in July 2003 to a total of 48 counties (the nine original counties plus Alamance, Brunswick, Buncombe, Burke, Caldwell, Carteret, Catawba, Chatham, Cleveland, Craven, Cumberland, Davidson, Edgecombe, Franklin, Granville, Harnett, Haywood, Henderson, Johnston, Lee, Lenoir, Moore, Nash, New Hanover, Onslow, Orange, Pitt, Randolph, Robeson, Rockingham, Rutherford, Stanly, Stokes, Surry, Wake, Wayne, Wilkes, and Wilson) on July 1, 2006. At the time of full implementation of the OBD program, inspection stations were performing the OBD emissions test on MY 1996 and newer vehicles, and tailpipe testing on MY 1995 and older vehicles were discontinued.

EPA most recently approved changes to North Carolina's I/M program in the SIP on October 30, 2002. See 67 FR 66056. Since that time, North Carolina has submitted additional changes to its program, which EPA is now acting upon. Specifically, North Carolina submitted SIP revisions related to the State's I/M program on January 31, 2008, May 24, 2010, October 11, 2013, and February 11, 2014. EPA's analysis of the aforementioned North Carolina SIP revisions related to changes in the State's I/M program is provided Section III of this rulemaking.

III. EPA's Analysis of North Carolina's SIP Revisions

Through SIP revisions provided on January 31, 2008, May 24, 2010, October 11, 2013, and February 11, 2014, NC DENR requested that EPA take action to update the State's implementation plan to include changes for the I/M program in North Carolina. For any changes to provisions that are already included in the federally-approved SIP, EPA must consider section 110(l) of the Clean Air Act (CAA or Act). Section 110(l) of the CAA requires that a revision to the SIP not interfere with any applicable requirement concerning attainment and reasonable further progress (as defined in section 171), or any other applicable requirement of the Act. The section 110(l) non-interference demonstration is a case-by-case determination based upon the circumstances of each SIP revision. EPA interprets 110(l) as applying to all NAAQS that are in effect, including those that have been promulgated, but for which the EPA has not yet made designations. The specific elements of the 110(l) analysis contained in the SIP revision depend on the circumstances and emissions analyses associated with that revision. EPA's analysis of North Carolina's SIP revisions related to changes for the I/M program, including review of section 110(l) requirements, is provided below.

On October 11, 2013, NC DENR submitted a SIP revision to provide the non-interference technical demonstration related to the changes for North Carolina's I/M program that resulted from the passage of North Carolina General Assembly Session Laws 2011-95 and 2012-199 as well as the other revisions described herein to the State's I/M program, such as the discontinuation of tailpipe testing MY 1995 and older vehicles. This non-interference demonstration also accounts for the previous repeal of regulation 15A NCAC 02D .1004, where applicable. Specifically, this demonstration considers the changes to the State's I/M program in three geographical areas that cover the entire 48 counties where the I/M program is required. The three geographical areas are as follows: The Charlotte Area; the Greensboro Area; and the remainder of the 48 counties not covered in the Charlotte and Greensboro Area analyses. More information on the non-interference demonstration and EPA's analysis for each Area is described below.

a. Analysis of the Non-Interference Demonstration for the Charlotte Area

As indicated above, on October 11, 2013, NC DENR provided a technical demonstration with modeling to account for changes to the North Carolina I/M program in the seven county Charlotte Area.³ Specifically, the technical demonstration modifies the existing 175A(a) maintenance plan for the Charlotte Area to account for changes to the I/M program including the exemption of the three newest model year vehicles under 70,000 miles and plug in vehicles for this area, and the change in I/M compliance rate from 95 percent to 96 percent. North Carolina's October 11, 2013, SIP revision includes an evaluation of the impact that the increase in model year exemptions would have on the attainment and or maintenance of the 1997 and 2008 ozone standards and on other applicable NAAQS.

³ The Charlotte Area is comprised of Mecklenburg, Cabarrus, Gaston, Lincoln, Rowan, Union and Iredell Counties.

Specifically, North Carolina's October 11, 2013, SIP revision includes a technical demonstration which revised mobile source emissions modeling using EPA's approved models—Motor Vehicle Emissions Simulator (MOVES) 2010b—to demonstrate non-interference for the SIP revisions to expand the I/M exemptions and to account for the increase in the I/M compliance rate from 95 percent to 96 percent. In that technical demonstration, NC DENR provided information regarding the emissions projections from the I/M program changes for carbon monoxide and for the precursor of ozone (i.e., nitrogen oxides (NOX) and volatile organic compounds (VOCs)). To determine these emissions, NC DENR's demonstration compared the current 95 percent I/M compliance rate and the 1 model year exemption emissions inventory to the 96 percent I/M compliance rate and the 3 model year exemption for the Charlotte Area. This comparison for the Charlotte Area is shown below in Table 1.

Table 1—Changes in Emissions for Charlotte Area
Emissions (kg/day) | Current I/M program (95% compliance rate, 1 year exemption) | Target I/M program (96% compliance rate, 3 year exemption) | Difference between 95% and 96% compliance rate
NOX | 98,157 | 98,122 | −35
VOC | 48,545 | 48,523 | −22
CO | 1,047,712 | 1,047,737 | 24

Table 1 above indicates an emissions benefit for the changes to North Carolina's I/M program with regard to the ozone precursor emissions (i.e., NOX and VOC), and a slight emissions increase with regards to emissions for CO. There is no difference in emissions anticipated as a result of North Carolina I/M program changes for particulate matter (PM), lead, sulfur dioxide (SO2) or nitrogen dioxide (NO2). Accordingly, in this action, EPA is making the determination that the applicable NAAQS ⁴ of interest for the non-interference demonstration required by section 110(l) of the CAA are the ozone and CO standards.

⁴ The six NAAQS for which EPA establishes health and welfare based standards are CO, Lead, NO2, Ozone, PM, and Sulfur Dioxide.

In addition to the information provided in North Carolina's technical demonstration, EPA reviewed the most recent preliminary ozone air quality data for the Charlotte Area, and it appears that the Area is currently monitoring attaining levels for all ozone NAAQS (including the 2008 8-hour ozone NAAQS for which the area is currently designated nonattainment). While the Charlotte Area is currently a nonattainment area for ozone, the changes to North Carolina's I/M program are not anticipated to increase emissions in ozone precursors (i.e., VOC and NOX—see Table 1 above), so EPA does not expect these changes to interfere with the Area's ability to attain the 2008 8-hour ozone NAAQS. EPA also notes that the Charlotte Area has not been designated for the SO2 NAAQS, and is currently designated unclassifiable/attainment for the 1997 PM2.5 NAAQS, the 2006 PM2.5 NAAQS, the 2008 Lead NAAQS and the 2010 NO2 NAAQS.

The Charlotte Area is also in attainment of the CO NAAQS and has current monitoring levels of CO well below the standard. Even though there is a slight emissions increase from this rule change for CO emissions, given the Charlotte Area's CO monitoring levels that are well below the CO NAAQS, EPA does not believe that the slight increase in CO emissions will cause the Area to come out of compliance with the CO NAAQS.⁵ Consequently, EPA has concluded that the new modeling associated with these changes demonstrates that the changes for North Carolina's I/M program in the seven counties in the Charlotte Area will not interfere with the Area's ability to attain and maintain the NAAQS.

⁵ Based upon the projected CO emissions increase of 24 kg/day, the difference in CO emissions per day of the target I/M Program represents an increase of only 0.002291% over CO emissions under the Current I/M Program.

b. Analysis of the Non-Interference Demonstration for the Greensboro Area

In its October 11, 2013, SIP revision, NC DENR provided a technical demonstration with modeling to account for changes to the North Carolina I/M program in the three-county Greensboro Area ⁶ similar to the demonstration that was conducted for the Charlotte Area to account for the same changes to North Carolina's I/M program. Table 2 provides the changes in emissions that will result from the changes to North Carolina's I/M program in the Greensboro Area.

⁶ The Greensboro Area is comprised of Guilford, Forsyth, and Davidson Counties.

Table 2—Changes in Emissions for Greensboro Area
Emissions (kg/day) | Current I/M program (95% compliance rate, 1 year exemption) | Target I/M program (96% compliance rate, 3 year exemption) | Difference between 95% and 96% compliance rate
NOX | 36,157 | 36,143 | −15
VOC | 19,965 | 19,954 | −11
CO | 492,801 | 492,720 | −82

Table 2 above indicates an emissions benefit for the changes to North Carolina's I/M program with regard to the ozone precursor emissions (i.e., NOX and VOC), and for CO. There is no difference in emissions anticipated as a result of North Carolina I/M program changes for PM, Lead, SO2 or NO2. In this action, EPA is making the determination that the applicable NAAQS of interest for the non-interference demonstration required by section 110(l) of the CAA are the ozone and CO standards.

In addition to the information provided in North Carolina's technical demonstration, EPA reviewed the most recent preliminary ozone air quality data for the Greensboro Area, and it appears that the area is monitoring attaining levels for all ozone NAAQS. The Greensboro Area has not been designated for the SO2 NAAQS, and is currently designated unclassifiable/attainment for the 1997 PM2.5 NAAQS, the 2006 PM2.5 NAAQS, the 2008 Lead NAAQS, the 2008 8-hour Ozone NAAQS and the 2010 NO2 NAAQS. Consequently, EPA has concluded that the new modeling associated with these changes demonstrates that the changes for North Carolina's I/M program in the three counties of the Greensboro Area will not interfere with the Area's ability to attain and maintain the NAAQS.

c. Analysis of the Non-Interference Demonstration of the Remaining Counties Area

NC DENR provided a technical demonstration with modeling to account for changes to the North Carolina I/M program in the 38 counties outside of the seven Charlotte Area counties and the three Greensboro Area counties (hereafter referred to as the “Remaining Counties Area”) ⁷ in its October 11, 2013, SIP revision. Table 3 provides the changes in emissions that will result from the change to North Carolina's I/M program in the Remaining Counties.

⁷ The remaining counties include: Alamance, Brunswick, Buncombe, Burke, Caldwell, Carteret, Catawba, Chatham, Cleveland, Craven, Cumberland, Durham, Edgecombe, Franklin, Granville, Harnett, Haywood, Henderson, Johnston, Lee, Lenoir, Moore, Nash, New Hanover, Onslow, Orange, Pitt, Randolph, Robeson, Rockingham, Rutherford, Stanly, Stokes, Surry, Wake, Wayne, Wilkes, and Wilson Counties.

Table 3—Changes in Emissions for Remaining Counties Area
Emissions (kg/day) | Current I/M program (95% compliance rate, 1 year exemption) | Target I/M program (96% compliance rate, 3 year exemption) | Difference between 95% and 96% compliance rate
NOX | 226,196 | 226,113 | −83
VOC | 115,443 | 115,384 | −59
CO | 2,560,587 | 2,560,367 | −220

Table 3 above indicates an emissions benefit for the changes to North Carolina's I/M program with regard to the ozone precursor emissions (i.e., NOX and VOC), and for CO. There is no difference in emissions anticipated as a result of North Carolina I/M program changes for PM, Lead, SO2 or NO2. In this action, EPA is making the determination that the applicable NAAQS of interest for the non-interference demonstration required by section 110(l) of the CAA are the ozone and CO standards.

In addition to the information provided in North Carolina's technical demonstration, EPA reviewed the most recent preliminary ozone air quality data for this Area, and it appears that the Remaining Counties Area is monitoring attaining levels for all ozone NAAQS. The Remaining Counties Area has not been designated for the SO2 NAAQS, and is currently designated unclassifiable/attainment for the 1997 PM2.5 NAAQS, the 2006 PM2.5 NAAQS, the 2008 Lead NAAQS, the 2008 8-hour Ozone NAAQS and the 2010 NO2 NAAQS. Consequently, EPA has concluded that the new modeling associated with these changes demonstrates that the changes for North Carolina's I/M program in the Remaining Counties Area will not interfere with the Area's ability to attain and maintain the NAAQS.

d. Conclusion

Based upon the above analysis, EPA's overall conclusion with regards to North Carolina's changes to the State's I/M program is that these changes are consistent with the CAA and will not interfere with any of the affected Areas' ability to attain and maintain the NAAQS. While the individual area analyses appear to demonstrate that these changes provide an overall emissions benefit for each Area, the benefit is even more pronounced when the total emission reductions from the entire area covered by the North Carolina I/M program are considered. Table 4 below provides the changes in emissions that will result from the change to North Carolina's I/M program in all of the affected counties.

Table 4—Changes in Emissions for All Affected Counties
Emissions (kg/day) | Current I/M program (95% compliance rate, 1 year exemption) | Target I/M program (96% compliance rate, 3 year exemption) | Difference between 95% and 96% compliance rate
NOX | 360,510 | 360,377 | −133
VOC | 183,953 | 183,860 | −92
CO | 4,101,100 | 4,100,823 | −277

Table 4 above indicates an emissions benefit for the changes to North Carolina's I/M program with regard to the ozone precursor emissions (i.e., NOX and VOC), and for CO.⁸ This provides further support for EPA's overall determination that the changes to North Carolina's I/M program will not interfere with attainment or maintenance of the NAAQS, or any other applicable requirement of the CAA.

⁸ As noted above, there are no difference in emissions anticipated as a result of North Carolina's I/M program changes for PM, Lead, SO2 or NO2.

IV. Final Action

EPA is approving changes to North Carolina's I/M program as provided in SIP revisions dated January 31, 2008, May 24, 2010, October 11, 2013, and February 11, 2014. First, EPA is approving the repeal of regulation 15A NCAC 02D .1004 as provided in North Carolina's January 31, 2008. EPA has made the determination that the repeal of this regulation is acceptable because it is obsolete and replaced by OBD. This change to the program was accounted for in North Carolina's modeling included with the October 11, 2013, non-interference demonstrations. EPA is also approving North Carolina's rule changes as provided in North Carolina's May 24, 2010, and February 11, 2014, SIP revisions, which are also supported by the State's technical non-interference demonstration provided through the October 11, 2013 SIP revision. EPA has made the determination that North Carolina's technical non-interference demonstration supports a conclusion that these rule changes will not interfere with air quality goals in areas in North Carolina. EPA has also made the determination that these SIP revisions with regard to the aforementioned provisions are approvable because they are consistent with section 110 of the CAA.

EPA is publishing this rule without prior proposal because the Agency views these actions as non-controversial revisions and anticipates no adverse comments. However, in the proposed rules section of this Federal Register publication, EPA is publishing a separate document that will serve as the proposal to approve the SIP revision should relevant adverse comment be filed. This rule will be effective on January 20, 2015 without further notice unless the Agency receives relevant adverse comment by December 22, 2014. If EPA receives such comments, EPA will publish a document withdrawing the final rule and informing the public that the rule will not take effect. EPA will address all relevant adverse comments received during the comment period in a subsequent final rule based on the proposed rule. EPA will not institute a second comment period on this action. Any parties interested in commenting must do so by December 22, 2014. If no such comments are received, this rule will be effective on January 20, 2015 and no further action will be taken on the proposed rule.

V. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely approves State law as meeting federal requirements and does not impose additional requirements beyond those imposed by State law. For that reason, this final action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 20, 2015. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Authority: 42 U.S.C. 7401 et seq.

Dated: October 23, 2014.
V. Anne Heard,
Acting Regional Administrator, Region 4.

40 CFR part 52 is amended as follows:

PART 52—APPROVAL AND PROMULGATION OF IMPLEMENTATION PLANS

1. The authority citation for part 52 continues to read as follows:

Authority: 42 U.S.C. 7401 et seq.

Subpart II—North Carolina

2. In § 52.1770:

a. Table 1 in paragraph (c) is amended by revising the entries for “Sect .1002,” “Sect .1003,” and “Sect .1005;” and removing the entry for “Sect .1004.”

b. In paragraph (e), the table is amended by adding a new entry “Non-Interference Demonstration for the North Carolina Inspection and Maintenance Program” at the end of the table.

The revisions and addition read as follows:

§ 52.1770 Identification of plan

* * * * *

(c) * * *

Table 1—EPA Approved North Carolina Regulations
State citation | Title/subject | State effective date | EPA approval date | Explanation
Subchapter 2D Air Pollution Control Requirements
* * * * * * *
Section .1000 Motor Vehicle Emissions Control Standard
* * * * * * *
Sect .1002 | Applicability | 1/1/2014 | 11/20/2014 [Insert Federal Register citation] |
Sect .1003 | Definitions | 2/1/2014 | 11/20/2014 [Insert Federal Register citation] |
Sect .1005 | On-Board Diagnostic Standards | 1/1/2014 | 11/20/2014 [Insert Federal Register citation] |
* * * * * * *

* * * * *

(e) * * *

EPA Approved North Carolina Non-Regulatory Provisions
Provision | State effective date | EPA approval date | Federal Register citation | Explanation
* * * * * * *
Non-Interference Demonstration for the North Carolina Inspection and Maintenance Program | 10/11/2013 | 11/20/2014 | [Insert Federal Register citation]

[FR Doc. 2014-27030 Filed 11-19-14; 8:45 am]

BILLING CODE 6560-50-P